FEDERAL COMMUNICATIONS COMMISSION

47 CFR Part 73

[DA 04-548; MM Docket No. 01-105; RM-10104]

Radio Broadcasting Services; Shiner, TX

AGENCY: Federal Communications Commission.

ACTION: Proposed rule; dismissal.

SUMMARY: The Commission dismisses the petition for rulemaking filed by Stargazer Broadcasting, Inc., proposing the allotment of Channel 232A at Shiner, Texas. We find that the proposal conflicts with a prior-filed counterproposal requesting the allotment of Channel 232A at Flatonia, Texas. Moreover, the petition is untimely filed to be considered as a counterproposal in the context of that proceeding (MM Docket No. 00-148).

FOR FURTHER INFORMATION CONTACT: Sharon P. McDonald, Media Bureau, (202) 418-2180.

SUPPLEMENTARY INFORMATION: This is a synopsis of the Commission's Report and Order, MM Docket No. 01-105, adopted March 10, 2004, and released March 12, 2004. The full text of this Commission decision is available for inspection and copying during normal business hours in the FCC Reference Information Center (Room CY-A257), 445 12th Street, SW., Washington, DC.

The complete text of this decision may also be purchased from the Commission's copy contractors, Qualex International, Portals II, 445 12th Street, SW., Room CY-B402, Washington, DC 20554.

Federal Communications Commission.
John A. Karousos,
Assistant Chief, Audio Division, Media Bureau.

[FR Doc. 04-7100 Filed 3-29-04; 8:45 am]

BILLING CODE 6712-01-P